DEPARTMENT OF COMMERCE

International Trade Administration

[A-428-841, A-570-925]

Sodium Nitrite From Federal Republic of Germany and People's Republic of China: Final Results of Expedited Third Sunset Reviews of Antidumping Duty Orders

AGENCY: Enforcement and Compliance, International Trade Administration, Department of Commerce.

SUMMARY: As a result of these expedited sunset reviews, the U.S. Department of Commerce (Commerce) finds that revocation of the antidumping duty (AD) orders on sodium nitrite from the Federal Republic of Germany (Germany) and the People's Republic of China (China) would be likely to lead to the continuation or recurrence of dumping at the dumping margins identified in the “Final Results of Reviews” section of this notice.

DATES: Applicable November 13, 2024.

FOR FURTHER INFORMATION CONTACT: Robert Copyak, AD/CVD Operations, Enforcement and Compliance, International Trade Administration, U.S. Department of Commerce, 1401 Constitution Avenue NW, Washington, DC 20230; telephone: (202) 482-3642.

SUPPLEMENTARY INFORMATION:

Background

On July 1, 2024, Commerce published the notice of initiation of the third sunset reviews of the Orders,¹ pursuant to section 751(c) of the Tariff Act of 1930, as amended (the Act).² On July 10, 2024, Commerce received a notice of intent to participate from Chemtrade Chemicals US LLC (Chemtrade), the domestic interested party, within the 15-day period specified in 19 CFR 351.218(d)(1)(i).³ Chemtrade claimed interested party status under section 771(9)(C) of the Act, as a producer of the domestic like product in the United States. On July 22, 2024, Commerce tolled certain deadlines in these administrative proceedings by seven days.⁴ The deadline for the final results of these sunset reviews is now November 5, 2024.

¹ See Sodium Nitrite from the Federal Republic of Germany and the People's Republic of China: Antidumping Duty Orders, 73 FR 50593 (August 27, 2008) (Orders).

² See Initiation of Five-Year (Sunset) Reviews, 89 FR 54435 (July 1, 2024).

³ See Chemtrade's Letters, “Notice of Intent to Participate,” dated July 10, 2024.

⁴ See Memorandum, “Tolling of Deadlines for Antidumping and Countervailing Duty Proceedings,” dated July 22, 2024.

On July 31, 2024, Chemtrade filed adequate substantive responses within the deadline specified in 19 CFR 351.218(d)(3)(i).⁵ Commerce did not receive a substantive response from any respondent interested party. As a result, pursuant to section 751(c)(3)(A) of the Act and 19 CFR 351.218(e)(1)(ii)(C)(2), Commerce conducted expedited (120-day) sunset reviews of the Orders.

⁵ See Chemtrade's Letters, “Substantive Response to Notice of Initiation of Five-Year (Sunset) Reviews of the Antidumping Duty Orders on Imports from China and Germany and the Countervailing Duty Order on Imports from China,” dated July 31, 2024.

Scope of the Orders

The merchandise covered by these Orders is sodium nitrite from China and Germany. For a complete description of the scope of the Orders, see the Issues and Decision Memorandum.⁶

⁶ See Memorandum, “Issues and Decision Memorandum for the Final Results of the Expedited Third Sunset Reviews of the Antidumping Duty Orders on Sodium Nitrite from the Federal Republic of Germany and the People's Republic of China,” dated concurrently with, and hereby adopted by, this notice (Issues and Decision Memorandum).

Analysis of Comments Received

A complete discussion of all issues raised in these sunset reviews, including the likelihood of the continuation or recurrence of dumping and the magnitude of the margins likely to prevail if the Orders were to be revoked, is provided in the Issues and Decision Memorandum. A list of the topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

Final Results of Sunset Reviews

Pursuant to sections 751(c)(1), and 752(c)(1) and (3) of the Act, Commerce determines that revocation of the Orders would be likely to lead to the continuation or recurrence of dumping. We determine that the weighted-average dumping margins likely to prevail are up to 190.74 percent for China and 237.00 percent for Germany.

Notification Regarding Administrative Protective Orders (APOs)

This notice serves as the only reminder to parties subject to APO of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these results in accordance with sections 751(c), 752(c), and 777(i)(1) of the Act, and 19 CFR 351.221(c)(5)(ii).

Dated: November 5, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2024-26221 Filed 11-12-24; 8:45 am]

BILLING CODE 3510-DS-P